DEPARTMENT OF THE INTERIOR

National Park Service

[NPS-WASO-NAGPRA-NPS0034855; PPWOCRADN0-PCU00RP14.R50000]

Notice of Intent To Repatriate Cultural Items: Federal Bureau of Investigation, Art Theft Program, Washington, DC

AGENCY: National Park Service, Interior.

ACTION: Notice.

SUMMARY: The Federal Bureau of Investigation (FBI), in consultation with the appropriate Indian Tribes or Native Hawaiian organizations, has determined that the cultural items listed in this notice meet the definition of sacred objects. Lineal descendants or representatives of any Indian Tribe or Native Hawaiian organization not identified in this notice that wish to claim these cultural items should submit a written request to the FBI. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the FBI at the address in this notice by December 12, 2022.

FOR FURTHER INFORMATION CONTACT: Federal Bureau of Investigation, FBI Headquarters, Attn: Supervisory Special Agent (SSA) Randolph J. Deaton IV, Art Theft Program, 935 Pennsylvania Avenue NW, Washington, DC 20535, telephone (202) 324-5525, email artifacts@ic.fbi.gov.

SUPPLEMENTARY INFORMATION: Notice is here given in accordance with the Native American Graves Protection and Repatriation Act (NAGPRA), 25 U.S.C. 3005, of the intent to repatriate cultural items under the control of the Federal Bureau of Investigation, Washington, DC, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, four cultural items were removed from the Four Corners region of the southwestern United States transported to Indiana, where they remained part of a private collection. In April of 2014, these cultural items were seized by the FBI as part of a criminal investigation.

Through consultation with representatives of the Southern Ute Indian Tribe of the Southern Ute Reservation, Colorado, the cultural affiliation of these four items with the Southern Ute Indian Tribe of the Southern Ute Reservation, Colorado was determined and the identification of the items as sacred objects was established. The Southern Ute Indian Tribe's “original territory” and ancestral homelands extended throughout the Four Corners region. According to Ute oral traditional knowledge, “the Utes were created by Sinawav (the Creator) and were placed in the mountains. The Sinawav told the people they would be few in number but, they would be strong warriors, and protectors of their lands. There is no migration story, we were placed here in the mountains, we have always been here, we will always be here.”

Determinations Made by the Federal Bureau of Investigation

Officials of the Federal Bureau of Investigation have determined that:

• Pursuant to 25 U.S.C. 3001(3)(C), the four cultural items described above are specific sacred/ceremonial objects needed by traditional Native American religious leaders for the practice of traditional Native American religions by their present-day adherents.

• Pursuant to 25 U.S.C. 3001(2), there is a relationship of shared group identity that can be reasonably traced between the sacred objects and the Southern Ute Indian Tribe of the Southern Ute Reservation, Colorado.

Additional Requestors and Disposition

Lineal descendants or representatives of any Indian Tribe or Native Hawaiian organization not identified in this notice that wish to claim these cultural items should submit a written request with information in support of the claim to Federal Bureau of Investigation, FBI Headquarters, Attn: Supervisory Special Agent (SSA) Randolph J. Deaton IV, Art Theft Program, 935 Pennsylvania Avenue NW, Washington, DC 20535, telephone (202) 324-5525, email artifacts@ic.fbi.gov, by December 12, 2022. After that date, if no additional claimants have come forward, transfer of control of the sacred objects to the Southern Ute Indian Tribe of the Southern Ute Reservation, Colorado may proceed.

The Federal Bureau of Investigation is responsible for notifying the Southern Ute Indian Tribe of the Southern Ute Reservation, Colorado that this notice has been published.

Dated: November 2, 2022.
Melanie O'Brien,
Manager, National NAGPRA Program.

[FR Doc. 2022-24559 Filed 11-9-22; 8:45 am]

BILLING CODE 4312-52-P